FEDERAL COMMUNICATIONS COMMISSION

47 CFR Part 73

[DA 02-710, MB Docket No. 02-65, RM-10370]

Digital Television Broadcast Service and Television Broadcast Service; Georgetown, SC

AGENCY: Federal Communications Commission.

ACTION: Proposed rule.

SUMMARY: The Commission requests comments on a petition filed by Community Television, Inc., an applicant for a construction permit for a new noncommercial educational television station to operate on NTSC channel *41 at Georgetown. Community Television requests the replacement of DTV channel *38 for NTSC channel *41 at Georgetown. DTV channel *38 can be allotted to Georgetown, South Carolina, in compliance with Sections 73.622(a) and 73.623(c) of the Commission's criteria as set forth in the Public Notice, released November 22, 1999, DA 99-2605. DTV channel *38 can be allotted at reference coordinates 33-25-58 N. and 79-16-16 W. with a power of 500, a height above average terrain HAAT of 144 meters.

DATES: Comments must be filed on or before May 23, 2002, and reply comments on or before June 7, 2002.

ADDRESSES: Federal Communications Commission, 445 12th Street, SW., Room TW-A325, Washington, DC 20554. In addition to filing comments with the FCC, interested parties should serve the petitioner, or its counsel or consultant, as follows: Gene A. Bechtel, Bechtel & Cole, Chartered, 1901 L Street, NW., Suite 250, Washington, DC 20036 (Counsel for Community Television, Inc.).

FOR FURTHER INFORMATION CONTACT: Pam Blumenthal, Media Bureau, (202) 418-1600.

SUPPLEMENTARY INFORMATION: This is a synopsis of the Commission's Notice of Proposed Rule Making, MB Docket No. 02-65, adopted March 25, 2002, and released April 1, 2002. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under South Carolina, is amended by removing Channel *41 at Georgetown.

3. The authority citation for part 73 continues to read as follows:

Authority: 47 U.S.C. 154, 303, 334, and 336.

§ 73.622 [Amended]

4. Section 73.622(b), the Table of Digital Television Allotments under South Carolina, is amended by adding Georgetown, DTV channel *38.

Federal Communications Commission.
Barbara A. Kreisman,
Chief, Video Division, Media Bureau.

[FR Doc. 02-7976 Filed 4-2-02; 8:45 am]

BILLING CODE 6712-01-P